DEPARTMENT OF HOUSING AND URBAN DEVELOPMENT

[Docket No. FR-5763-N-03]

Implementation of the Privacy Act of 1974, as Amended; Republication To Delete and Update Privacy Act System of Records Notifications

AGENCY: Office of the Chief Information Officer, HUD.

ACTION: Notice republications and deletions.

SUMMARY: Pursuant to the Privacy Act of 1974 (U.S.C. 552a(e)(4)), as amended, and Office of Management and Budget (OMB), Circular No. A-130, notice is hereby given that the Department of Housing and Urban Development (HUD), Office of the Chief Information Officer (OCIO) republishes in the Federal Register correction to the “Authority for Maintenance of the System” and “Retention and Disposal” information for certain notices published in the Federal Register for notice entitled “Republication to Delete and Update Privacy Act System of Records Notifications” (February 6, 2013, 78 FR 02646). Furthermore, the Department announces its intent to also delete two systems of records from the publication. These notices and the records thereof are collected and maintained by the Office of the Chief Financial Officer (OCFO). Detailed descriptions of the present systems covered by these actions are provided under the supplementary section and as part of the updated notice. This notice supersedes the previously published notices referenced by this republication.

DATES: Effective Date: All revisions included in this republication are complete and accurate as of February 7, 2014.

FOR FURTHER INFORMATION CONTACT: Donna Robinson-Staton, Chief Privacy Officer, 451 Seventh Street SW., Washington, DC 20410 (Attention: Capitol View Building, 4th Floor), telephone number: (202) 402-8073. [The above telephone number is not a toll free numbers.] A telecommunications device for hearing- and speech-impaired persons (TTY) is available by calling the Federal Information Relay Service's toll-free telephone number (800) 877-8339.

SUPPLEMENTARY INFORMATION: Republication to update and/or delete system of records notifications.

On February 6, 2013, the Department issued a notice in the Federal Register entitled “Republication to Delete and Update Privacy Act System of Records Notifications”. Subsequently certain notices under this publication cited inapplicable legal authorities and record retention practices. This republication notifies the public of the corrected information.

Updated Systems—The systems modified by this republication and their new coding structure are listed as follows:

1. CFO/FY.01 HUD Central Accounting and Program System (Previous CFO/FY.01)

2. CFO/FY.02 Previous publication: CFO/FY.03, Line of Credit Control System, February 6, 2013

3. CFO/FY.03 Personal Services Cost Reporting Subsystem (Previously CFO/FY.05)

4. CFO/FY.04 Financial Data Mart (Previously CFO/FY.06)

Additional analysis concluded with the Chief Financial Officer having to delete two system of records notifications: CFO/FY.02: Audit Resolution and Corrective Action Tracking System, and CFO/FY.04: Integrated Automated Travel System. The Privacy Act notice for the CFO/FY.02: Audit Resolution and Corrective Action Tracking System will be deleted entirely and does not require Privacy Act coverage, and CFO/FY.04: Integrated Automated Travel System will adopt its Privacy Act coverage under GSA/GOVT-4, Contracted Travel Services Program (June 3, 2009, 74 FR 26700).

These systems are those maintained by HUD's Office of the Chief Financial Officer that include personally identifiable information provided by individuals from which information is retrieved by a name of unique identifier. The system revisions encompass programs and services of the Department's data collection and management practices. This republication allows HUD to organize and re-publish up-to-date and accurate information as specified above. The system modifications and deletions incorporate Federal privacy requirements, and HUD policy requirements. The Privacy Act provides certain safeguards for an individual against an invasion of personal privacy by requiring Federal agencies to protect records contained in an agency system of records from unauthorized disclosure, ensure that information is current for its intended use, and that adequate safeguards are provided to prevent misuse of such information. Additionally, the updates reflect the Department's focus on industry best practices in protecting the personal privacy of the individuals covered by each system notification. This notice for each system of records states the name and location of the record system, the authority for and manner of it operations, the categories of individuals that it covers, the type of records that it contains, the sources of the information for those records, the routine uses of each systems of records, and the system of records exemption types. In addition, each notice includes the business address of the HUD officials who will inform interested persons of the procedures whereby they may gain access to and/or request amendments to records pertaining to them. The routine uses that apply to this publication are reiterated based on past publication to clearly communicate the ways in which HUD continues to conduct some of its business practices.

Since the republication of system of records notices does not meet the threshold requirements for a new or amended system, a report was not submitted to the Office of Management and Budget (OMB), the Senate Committee on Homeland Security and Governmental Affairs, and the House Committee on Government Reform as instructed by Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: March 19, 2014.
Kevin R. Cooke, Jr.,
Acting Chief Information Officer.

CFO/FY.01

System name:

HUD Central Accounting and Program System (HUDCAPS, A75).

System location:

HUD Headquarters, Washington, DC 20410 and Hewlett-Packard Data Center, South Charleston, WV 25303.

Categories of individuals covered by the system:

Grant, subsidy, project, and loan recipients; HUD personnel; vendors; brokers; bidders; managers; individuals within Disaster Assistance Programs: Builders, developers, contractors, and appraisers.

Categories of records in the system:

The system contains the following employee/vendor information: Name, Social Security Number, home address, and financial data. Also included are funds control records, accounts receivable records, purchase order and contract records, travel records including orders, vouchers, and advances, payment voucher records, deposit and receipt records, disbursement and cancelled check records, and financial records.

Authority for maintenance of the system:

Sec. 113 of the Budget and Accounting Act of 1950, 31 U.S.C. 66a. (Pub. L. 81-784); The Chief Financial Officers Act of 1990; Executive Order 9397, as amended by Executive Order 13478; The Housing and Community Development Act of 1987, 42 U.S.C. 3543.

Purpose(s):

These records are an integral part of HUDCAPS, which provides an integrated general ledger and core accounting for the Department's grant, subsidy, and loan programs. The general ledger posts and maintains account balances for all financial transactions recorded in the subsidiary systems. HUDCAPS performs core accounting functions, which includes but is not limited to keeping track of all payments to individuals, supporting and documenting expenses incurred in the performance of official agency duties, accounting for goods and services received, accounting for funds paid and received, and processing travel authorizations and claims.

Routine uses of records maintained in the system, including categories of users and the purposes of such uses:

In addition to those disclosures generally permitted under 5 U.S.C. 552a(b) of the Privacy Act, the records in this system are disclosed to:

1. The U.S. Treasury—for transactions such as disbursements of funds and related adjustments;

2. The Internal Revenue Service (IRS)—for reporting payments for goods and services and for reporting of discharge indebtedness;

3. Any other Federal agency including, but not limited to the IRS pursuant to 31 U.S.C. 3720A, for the purpose of effecting an administrative offset against the debtor for a delinquent debt owed to the U.S. Government by the debtor;

4. Other Federal Agencies—for the purpose of debt collection to comply with statutory reporting requirements;

5. The General Service Administration's Federal Procurement Data System, a central repository for statistical information on Government contracting, for purposes of providing public access to Government-wide data about agency contract actions;

6. HUD contractors when necessary to perform a function or service related to this system of records. Such recipients are required to comply with the Privacy Act of 1974, as amended U.S.C. 552a.

7. The consumer reporting agencies: Disclosures pursuant to 5 U.S.C. 552a(b)(12). Disclosures may be made from the system to consumer reporting agencies as defined in the Fair Credit Reporting Act (15 U.S.C. 1681a(f) or the Federal Claims Collection Act of 1966, 31 U.S.C. 3701(a)(3)). The disclosure is limited to information necessary to establish the identity of the individual, including name, social security number, and address; the amount, status, and history of the claim; and the agency or program under which the claim arose for the sole purpose of allowing the consumer reporting agency to prepare a credit report.

In addition to those disclosures generally permitted under 5 U.S.C. 552a(b) of the Privacy Act, discretionary disclosures that may be applicable to this system of records notice are found on the Department's Privacy Web site ¹ under Appendix 1.

¹ http://portal.hud.gov/hudportal/documents/huddoc?id=append1.pdf.

Policies and practices for storing, retrieving, accessing, retaining, and disposing of records in the system:

Storage:

Electronic files are stored on magnetic tape/disc/drum. There are no paper records that are maintained for this system.

Retrievability:

Records are retrieved by name, Social Security Number, schedule number, receipt number, voucher number, and contract number.

Safeguards employed:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

Retention and disposal:

Retention and disposal is in accordance with Records Disposition Schedule 21, HUD Handbook 2225.6. Records are destroyed or deleted when no longer necessary for agency business in accord with applicable federal standards or in no less than seven years after last action in accord with limitations on civil actions by or against the U.S. Government (28 U.S.C. 2401 and 2415). Data records are purged or deleted from the system when eligible to be destroyed using one of the methods described by the NIST SP 800-88 “Guidelines for Media Sanitization” (September 2006).

System manager(s) and address:

Assistant Chief Financial Officer for Systems, Office of the Chief Financial Officer, Department of Housing and Urban Development, 451 Seventh Street SW., Room 3100, Washington, DC 20410.

Notification and record access procedures:

For information, assistance, or inquiry about the existence of records, contact the Privacy Act Officer, Department of Housing and Urban Development, 451 Seventh Street SW., Room 4178, Washington, DC 20410. (Attention: Capitol View Building, 4th Floor). Provide verification of your identity by providing two proofs of official identification. Your verification of identity must include your original signature and must be notarized. The Department's rules for providing access to records to the individual concerned appear in 24 CFR Part 16.

Contesting record procedures:

The procedures for requesting amendment or correction of records appear in 24 CFR Part 16. If additional information is needed, contact:

(i) In relation to contesting contents of records, the Privacy Act Officer at HUD, 451 Seventh Street SW., Room 4178, Washington, DC 20410;

(ii) In relation to appeals of initial denials, HUD, Departmental Privacy Appeals Officer, Office of General Counsel, 451 Seventh Street SW., Washington, DC 20410.

Record source categories:

These records contain information obtained from the individual who is the subject of the records, HUD personnel, financial institutions, private corporations or business partners, and Federal agencies.

Exemptions from certain provisions of the Act:

None.

CFO/FY.02

System name:

Personal Services Cost Reporting Subsystem (PSCRS, A75I).

System location:

HUD Headquarters in Washington, DC 20410.

Categories of individuals covered by the system:

HUD employees.

Categories of records in the system:

This system contains the following employee information: Name, Social Security Number, and income information. Also included are HUD organizational code, pay rate, grade, pay and leave records, health benefits, debts owed to the government as a result of overpayment, refunds owed, and time and attendance records.

Authority for maintenance of the system:

Sec. 113 of the Budget and Accounting Act of 1950, 31 U.S.C. 66a. (Pub. L. 81-784); Chief Financial Officers Act of 1990 (Pub. L. 101-576); Executive Order 9397, as amended by Executive Order 13478.

Purpose(s):

To obtain payroll costs from NFC, a bureau of the U.S. Department of Agriculture. Additionally, PSCRS converts the NFC codes to HUD organizational codes and transits the converted codes and payroll costs to HUD's Central Accounting and Program System (HUDCAPS) for accounting of the payroll. PSCRS is necessary since it sends HUD's payroll costs to HUDCAPS and impacts HUD's financial reporting to the Office of Management and Budget (OMB). There is no public access to this system. This is for internal use only. The system has 8 users with update privileges.

Routine Uses of Records maintained in the system, including categories of users and the purposes of such uses:

In addition to those disclosures generally permitted under 5 U.S.C. 552a(b) of the Privacy Act, discretionary disclosures that may be applicable to this system of records notice are found on the Department's Privacy Web site under Appendix 1.

Disclosure to consumer reporting agencies:

N/A.

Policies and practices for storing, retrieving, accessing, retaining, and disposing of records in the system:

Storage:

Electronic files are stored on servers. There are no paper records that are maintained for this system.

Retrievability:

Records are retrieved by name, Social Security Number, and HUD organizational code.

Safeguards employed:

All HUD employees have undergone background investigations. HUD buildings are guarded and monitored by security personnel, cameras, ID checks, and other physical security measures. Access is restricted to authorized personnel or contractors whose responsibilities require access. System users must take the mandatory security awareness training annually as mandated by the Federal Information Security Management Act (FISMA) (44 U.S.C. 3541, et seq.). Users must also sign a Rules of Behavior form certifying that they agree to comply with the requirements before they are granted access to the system.

Retention and disposal:

Retention and disposal is in accordance with Records Disposition Schedule 21, HUD Handbook 2225.6. Records are destroyed or deleted when no longer necessary for agency business in accord with applicable federal standards or in no less than seven years after last action in accord with limitations on civil actions by or against the U.S. Government (28 U.S.C. 2401 and 2415). Data records are purged or deleted from the system when eligible to be destroyed using one of the methods described by the NIST SP 800-88 “Guidelines for Media Sanitization” (September 2006).

System manager(s) and address:

Assistant Chief Financial Officer for Systems, Office of the Chief Financial Officer, Department of Housing and Urban Development, 451 Seventh Street SW., Room 3100, Washington, DC 20410.

Notification and record access procedures:

For information, assistance, or inquiry about the existence of records, contact the Privacy Act Officer, Department of Housing and Urban Development, 451 Seventh Street SW., Room 4178, Washington, DC 20410. (Attention: Capitol View Building, 4th Floor). Provide verification of your identity by providing two proofs of official identification. Your verification of identity must include your original signature and must be notarized. The Department's rules for providing access to records to the individual concerned appear in 24 CFR Part 16.

Contesting record procedures:

The procedures for requesting amendment or correction of records appear in 24 CFR Part 16. If additional information is needed, contact:

(i) In relation to contesting contents of records, the Privacy Act Officer at HUD, 451 Seventh Street SW., Room 4178, Washington, DC 20410;

(ii) In relation to appeals of initial denials, HUD, Departmental Privacy Appeals Officer, Office of General Counsel, 451 Seventh Street SW., Washington, DC 20410.

Record source categories:

These records contain information obtained from official personnel records of employees.

Exemptions from certain provisions of the Act:

None.

CFO/FY.03

System name:

Financial Data Mart (FDM, A75R).

System location:

HUD Headquarters, Washington, DC 20410 and Hewlett-Packard Data Center, South Charleston, WV 25303.

Categories of individuals covered by the system:

Grant, subsidy, project, and loan recipients; HUD personnel; vendors; brokers; bidders; managers; individuals within Disaster Assistance Programs: builders, developers, contractors, and appraisers.

Categories of records in the system:

The system contains the following employee/vendor information: name, Social Security Number, home address, and financial data. Also included are funds control records, accounts receivable records, purchase order and contract records, travel records including orders, vouchers, and advances, payment voucher records, deposit and receipt records, disbursement and cancelled check records, and financial records.

Authority for maintenance of the system:

Sec. 113 of the Budget and Accounting Act of 1950, 31 U.S.C. 66a. (Pub. L. 81-784); The Chief Financial Officers Act of 1990 (Pub. L. 101-576); Executive Order 9397, as amended by Executive Order 13478; The Housing and Community Development Act of 1987, 42 U.S.C. 3543.

Purpose(s):

To allow the Department decision makers to view financial data in desired report format. Financial Data Mart (FDM) is a warehouse of data extracted from a variety of the Department's financial systems and supported by a number of query tools for the purpose of improved financial and program data reporting. FDM is the primary reporting tool used to generate internal ad-hoc reports, scheduled event driven reports, and queries. This system supports program area managers, budget officers, and management staff by providing centralized, uniform financial information, event driven reports, and an ad-hoc financial analysis tool.

Routine uses of records maintained in the system, including categories of users and the purposes of such uses:

In addition to those disclosures generally permitted under 5 U.S.C. 552a(b) of the Privacy Act, discretionary disclosures that may be applicable to this system of records notice are found on the Department's Privacy Web site under Appendix 1.

Disclosure to consumer reporting agencies:

N/A.

Policies and practices for storing, retrieving, accessing, retaining, and disposing of records in the system:

Storage:

Electronic files are stored on servers. There are no paper records that are maintained for this system.

Retrievability:

Records are retrieved by Name, Social Security Number, home address, user-id, deposit account number, and bank routing number.

Safeguards employed:

All HUD employees have undergone background investigations. HUD buildings are guarded and monitored by security personnel, cameras, ID checks, and other physical security measures. Access is restricted to authorized personnel or contractors whose responsibilities require access. System users must take the mandatory security awareness training annually as mandated by the Federal Information Security Management Act (FISMA) (44 U.S.C. 3541, et seq.). Users must also sign a Rules of Behavior form certifying that they agree to comply with the requirements before they are granted access to the system.

Retention and disposal:

Retention and disposal is in accordance with Records Disposition Schedule 21, HUD Handbook 2225.6. Records are destroyed or deleted when no longer necessary for agency business in accord with applicable federal standards or in no less than seven years after last action in accord with limitations on civil actions by or against the U.S. Government (28 U.S.C. 2401 and 2415). Data records are purged or deleted from the system when eligible to be destroyed using one of the methods described by the NIST SP 800-88 “Guidelines for Media Sanitization” (September 2006).

System manager(s) and address:

Assistant Chief Financial Officer for Systems, Office of the Chief Financial Officer, Department of Housing and Urban Development, 451 Seventh Street SW., Room 3100, Washington, DC 20410.

Notification and record access procedures:

For information, assistance, or inquiry about the existence of records, contact the Privacy Act Officer, Department of Housing and Urban Development, 451 Seventh Street SW., Room 4178, Washington, DC 20410. (Attention: Capitol View Building, 4th Floor). Provide verification of your identity by providing two proofs of official identification. Your verification of identity must include your original signature and must be notarized. The Department's rules for providing access to records to the individual concerned appear in 24 CFR part 16.

Contesting record procedures:

The procedures for requesting amendment or correction of records appear in 24 CFR part 16. If additional information is needed, contact:

(i) In relation to contesting contents of records, the Privacy Act Officer at HUD, 451 Seventh Street SW., Room 4178, Washington, DC 20410;

(ii) In relation to appeals of initial denials, HUD, Departmental Privacy Appeals Officer, Office of General Counsel, 451 Seventh Street SW., Washington, DC 20410.

Record source categories:

These records contain information obtained from the individual who is the subject of the records, HUD personnel, financial institutions, private corporations or business partners, and Federal agencies.

Exemptions from certain provisions of the Act:

None.

CFO/FY.04

Name:

Line of Credit Control Systems (LOCCS, A67).

System location:

HUD Headquarters, Washington, DC 20410 and South Charleston, WV 25303.

Categories of individuals covered by the system:

Grantees, subsidy recipients, project recipients, commercial vendors, builders, developers, contractors, and appraisers.

Categories of records in the system:

This system contains the following employee/vendor information: Name, Social Security Number, bank routing number, and deposit account number. Also included are funds control records, receivable records, contract records, payment voucher records, deposit and receipt records, disbursement and cancelled check records, and subsidiary ledger records.

Authority for maintenance of the system:

Sec. 113 of the Budget and Accounting Act of 1950, 31 U.S.C. 66a. (Pub. L. 81-784); The Chief Financial Officers Act of 1990 (Pub. L. 101-576); Executive Order 9397, as amended by Executive Order 13478; The Housing and Community Development Act of 1987, 42 U.S.C. 3543.

Purpose(s):

The purpose of the system of records is to process and make grant, loan, and subsidy disbursements. LOCCS ensures that payments are made in a timely manner thus achieving efficient cash management practices. Its function is to create accounting transactions with the appropriate accounting classification elements to correctly record disbursements and collections to the grant/project level subsidiary.

Routine uses of records maintained in the system, including categories of users and the purposes of such uses:

In addition to those disclosures generally permitted under 5 U.S.C. 552a(b) of the Privacy Act, the records in this system are disclosed to:

1. The U.S. Treasury—for transactions such as disbursements of funds and related adjustments;

2. The Internal Revenue Service—for reporting payments for goods and services and for reporting of discharge indebtedness;

3. The consumer reporting agencies: Disclosures pursuant to 5 U.S.C. 552a(b)(12). Disclosures may be made from the system to consumer reporting agencies as defined in the Fair Credit Reporting Act (15 U.S.C. 1681a(f) or the Federal Claims Collection Act of 1966, 31 U.S.C. 3701(a)(3)). The disclosure is limited to information necessary to establish the identity of the individual, including name, social security number, and address; the amount, status, history of the claim, and the agency or program under which the claim arose for the sole purpose of allowing the consumer reporting agency to prepare a credit report.

In addition to those disclosures generally permitted under 5 U.S.C. 552a(b) of the Privacy Act, discretionary disclosures that may be applicable to this system of records notice are found on the Department's Privacy Web site under Appendix 1.

Policies and practices for storing, retrieving, accessing, retaining, and disposing of records in the system:

Storage:

Electronic files are stored on servers. Paper printouts or original input documents are stored in locked file cabinets at HUD or as imaged documents on magnetic media.

Retrievability:

Records are retrieved by name, Social Security Number, schedule number, receipt number, voucher number, and contract number.

Safeguards employed:

All HUD employees have undergone background investigations. HUD buildings are guarded and monitored by security personnel, cameras, ID checks, and other physical security measures. Access is restricted to authorized personnel or contractors whose responsibilities require access. System users must take the mandatory security awareness training annually as mandated by the Federal Information Security Management Act (FISMA) (44 U.S.C. 3541, et seq.). Users must also sign a Rules of Behavior form certifying that they agree to comply with the requirements before they are granted access to the system.

Retention and disposal:

Retention and disposal is in accordance with Records Disposition Schedule 21, HUD Handbook 2225.6. Records are destroyed or deleted when no longer necessary for agency business in accord with applicable federal standards or in no less than seven years after last action in accord with limitations on civil actions by or against the U.S. Government (28 U.S.C. 2401 and 2415). Data records are purged or deleted from the system when eligible to be destroyed using one of the methods described by the NIST SP 800-88 “Guidelines for Media Sanitization” (September 2006).

Paper records eligible to be destroyed are shredded.

System manager(s) and address:

Assistant Chief Financial Officer for Systems, Office of the Chief Financial Officer, Department of Housing and Urban Development, 451 Seventh Street SW., Room 3100, Washington, DC 20410.

Notification and Record Access Procedures:

For information, assistance, or inquiry about the existence of records, contact the Privacy Act Officer, Department of Housing and Urban Development, 451 Seventh Street SW., Room 4178, Washington, DC 20410 (Attention: Capitol View Building, 4th Floor). Provide verification of your identity by providing two proofs of official identification. Your verification of identity must include your original signature and must be notarized. The Department's rules for providing access to records to the individual concerned appear in 24 CFR part 16.

Contesting record procedures:

The procedures for requesting amendment or correction of records appear in 24 CFR part 16. If additional information is needed, contact:

(1) In relation to contesting contents of records, the Privacy Act Officer at HUD, 451 Seventh Street SW., Room 4178, Washington, DC 20410;

(2) In relation to appeals of initial denials, HUD, Departmental Privacy Appeals Officer, Office of General Counsel, 451 Seventh Street SW., Washington, DC 20410.

Record source categories:

These records contain information obtained from the individual who is the subject of the records, HUD personnel, financial institutions, private corporations or business partners, and Federal agencies.

Exemptions from certain provisions of the Act:

None.

[FR Doc. 2014-06714 Filed 3-25-14; 8:45 am]

BILLING CODE 4210-67-P